DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before March 1, 2022.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on February 07, 2022.
Donald P. Burger,
Chief, General Approvals and Permits Branch.

Special Permits Data
Application No. | Applicant | Regulation(s) affected | Nature of the special permits thereof
11859-M | Cobham Mission Systems Orchard Park Inc | 173.301(f), 178.65, 173.302(a)(1) | To modify the special permit to authorize a new part number. (modes 1, 2, 4).
13220-M | Entegris, Inc | 173.302, 173.302c, 180.205(d) | To modify the special permit to authorize disposal of cylinders. (modes 1, 3).
16165-M | HRD Aero Systems, Inc | 173.302(a), 173.56(b) | To modify the special permit to increase the maximum aluminum content to 6.75%. (modes 1, 2, 3, 4, 5).
20357-M | Jingmen Hongtu Special Aircraft Manufacturing Co., Ltd | 178.274(b), 178.276(b)(1) | To modify the special permit to authorize ammonia and different packaging. (modes 1, 2, 3).
21125-M | CTS Cylinder Sales LLC | 180.209(a), 180.209(b)(1), 180.209(b) | To modify the special permit to authorize FBH flaw size for cylinders over 6” in diameter to be larger and commensurate with the size of the cylinder. (modes 1, 2).

[FR Doc. 2022-03086 Filed 2-11-22; 8:45 am]

BILLING CODE P